NATIONAL SCIENCE FOUNDATION

Agency Information Collection Activities: Comment Request; National Center for Science and Engineering Statistics (NCSES) Generic Clearance for Improvement Projects

AGENCY: National Center for Science and Engineering Statistics, National Science Foundation.

ACTION: Notice.

SUMMARY: The National Center for Science and Engineering Statistics (NCSES) within the National Science Foundation (NSF) is announcing plans to request renewal of the NCSES Generic Clearance for Improvement Projects (3145-0174). In accordance with the requirements of the Paperwork Reduction Act of 1995, we are providing the opportunity for public comment(s) on this action. After obtaining and considering public comment(s), NCSES will prepare the submission requesting that OMB approve clearance of this collection for three years.

DATES: Written comments on this notice must be received by July 29, 2025 to be assured of consideration. Comments received after that date will be considered to the extent practicable. Send comments to the address below.

FOR FURTHER INFORMATION CONTACT: Suzanne H. Plimpton, Reports Clearance Officer, National Science Foundation, 2415 Eisenhower Avenue, Suite E6300, Alexandria, Virginia 22314; telephone (703) 292-7556; or send email to splimpto@nsf.gov. Individuals who use a telecommunications device for the deaf (TDD) may call the Federal Information Relay Service (FIRS) at 1-800-877-8339 between 8:00 a.m. and 8:00 p.m., Eastern Time, Monday through Friday.

SUPPLEMENTARY INFORMATION:

Title of Collection: NCSES Generic Clearance for Improvement Projects.

OMB Control Number: 3145-0174.

Expiration Date of Current Approval: August 31, 2025.

Type of Request: Intent to seek approval to extend an information collection for three years.

Abstract. Established within the National Science Foundation by the America COMPETES Reauthorization Act of 2010 § 505, codified in the National Science Foundation Act of 1950, as amended, the National Center for Science and Engineering Statistics (NCSES)—one of 13 principal federal statistical agencies—serves as a central Federal clearinghouse for the collection, interpretation, analysis, and dissemination of objective data on science, engineering, technology, research and development for use by practitioners, researchers, policymakers, and the public. NCSES procures and disseminates nationally representative data for these purposes. The Generic Clearance will be used to ensure that NCSES obtains the highest quality data from data procurement, collection, and modernizations efforts to measure and understand the nation's science and engineering enterprise. State of the art methodology will be used to develop, evaluate, and test collection instruments, concepts and constructs, and data modernization efforts as well as to improve survey and statistical methodology. This may include field or pilot tests of questions for future large-scale surveys, as needed. The Generic Clearance also will be used to test and evaluate data dissemination tools and methods in an effort to improve access for data users.

Use of the Information. The purpose of these studies is to use the latest and most appropriate methodology to improve NCSES surveys, evaluate new data acquisition and collection efforts, and evaluate data dissemination tools and mechanisms. Methodological findings may be presented externally in technical papers at conferences, published in the proceedings of conferences, or in journals. Improved NCSES surveys, data collections, data procurement, and data dissemination will help policymakers in decisions on research and development funding, graduate education, and the scientific and engineering workforce, as well as contributing to reduced survey costs.

Expected Respondents. The respondents will be from industry, academia, nonprofit organizations, members of the public, and State and local governments. Respondents will be either individuals or institutions, depending on the topic under investigation. Qualitative procedures will generally be conducted in person, online (using Zoom, Microsoft Teams, or other conferencing tools), or over the phone. Quantitative procedures may be conducted using mail, Web, email, smartphone app, or telephone modes, depending on the topic under investigation. Up to 20,400 respondents may be contacted across all projects. No respondent will be contacted more than twice in one year under this generic clearance. Every effort will be made to use technology to limit the burden on respondents from small entities.

Both qualitative and quantitative methods will be used to improve NCSES's current data collection instruments and processes and to reduce respondent burden, as well as to develop new surveys and new or improved data dissemination tools. Qualitative and quantitative methods that may be used include, but are not limited to, the following: behavior coding, split-panel tests, pilot studies, field tests, focus groups, respondent debriefings, exploratory interviews, key-informant interviews, cognitive interviews, and usability tests. Cognitive interviews and usability tests may include the use of scenarios, paraphrasing, card sorts, vignette classifications, rating tasks, or participatory design methods (e.g. collaborative digital whiteboards). NCSES may conduct these studies using interviewer-administered or self-administered methods, including online convenience samples.

Estimate of Burden. NCSES estimates that a total reporting and recordkeeping burden of 12,200 hours will result from activities to improve its surveys. The calculation is shown in table 1.

Table 1—Potential Surveys for Improvement Projects, With the Number of Respondents and Burden Hours
Collection | Respondents | Total burden | Annualized burden
R&D Enterprise Surveys | 800 | 1,050 | 300
Science and Engineering Workforce Surveys | 6,300 | 1,725 | 592
STEM Education Surveys | 800 | 1,000 | 334
Data Dissemination Tools and Methods | 2,500 | 425 | 142
Other surveys and projects not specified | 10,000 | 8,000 | 2,667
Total | 20,400 | 12,200 |

Comments: Comments are invited on (a) whether the proposed collection of information is necessary for the proper performance of the functions of NCSES, including whether the information shall have practical utility; (b) the accuracy of NCSES's estimate of the burden of the proposed collection of information; (c) ways to enhance the quality, use, and clarity of the information on respondents, including through the use of automated collection techniques or other forms of information technology; and (d) ways to minimize the burden of the collection of information on those who are to respond, including through the use of appropriate automated, electronic, mechanical, or other technological collection techniques or other forms of information technology.

Dated: May 27, 2025.
Suzanne H. Plimpton,
Reports Clearance Officer, National Science Foundation.

[FR Doc. 2025-09820 Filed 5-29-25; 8:45 am]

BILLING CODE 7555-01-P